DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 24, 2006.

Interested persons are invited to submit written comments regarding the subject matter of the investigations to the Director, Division of Trade Adjustment Assistance, at the address shown below, not later than July 24, 2006.

The petitions filed in this case are available for inspection at the Office of the Director, Division of Trade Adjustment Assistance, Employment and Training Administration, U.S. Department of Labor, Room C-5311, 200 Constitution Avenue, NW., Washington, DC 20210.

Signed at Washington, DC this 28th day of June 2006.
Erica R. Cantor,
Director, Division of Trade Adjustment Assistance.

Appendix
[TAA petitions instituted between 6/20/06 and 6/23/06]
TA-W | Subject firm (petitioners) | Location | Date of institutions | Date of petition
59583 | NIBCO (Comp) | South Glens Falls, NY | 06/20/06 | 06/01/06
59584 | Republic Conduit (USW) | Elyria, OH | 06/20/06 | 06/16/06
59585 | Re-Source America, Inc. (Comp) | Mebane, NC | 06/20/06 | 05/25/06
59586 | Klaussner Furniture Industries, Inc. (Comp) | Candor, NC | 06/20/06 | 06/16/06
59587 | Suntron Northeast Operations (NEO) (Comp) | Lawrence, MA | 06/20/06 | 06/14/06
59588 | Ames True Temper Inc. (State) | Falls City, NE | 06/20/06 | 06/19/06
59589 | JB-DM Jewelry, LLC (State) | Los Angelos, CA | 06/20/06 | 06/14/06
59590 | Kenda Knits Inc. (Comp) | Clover, SC | 06/20/06 | 06/19/06
59591 | JP Morgan Chase (Union) | Houston, TX | 06/20/06 | 06/19/06
59592 | Border Apparel Laundry, LP (Comp) | El Paso, TX | 06/21/06 | 06/19/06
59593 | Rauch Industries, Inc. (Wkrs) | Gastonia, NC | 06/21/06 | 06/20/06
59594 | C and D Technologies, Inc. (Wkrs) | Tucson, AZ | 06/21/06 | 06/20/06
59595 | Comor Inc. (Comp) | Cochranton, PA | 06/21/06 | 06/19/06
59596 | Gujarat Glass International (GGI) (Comp) | Park Hills, MO | 06/21/06 | 06/20/06
59597 | Fisher Dynamics (State) | St. Clair Shores, MI | 06/21/06 | 06/21/06
59598 | Waste Management Inc. (UAW) | St. Louis, MO | 06/21/06 | 06/19/06
59599 | Griffco Quality Solutions (UAW) | St. Louis, MO | 06/21/06 | 06/19/06
59600 | Cooper Tools/Nicholson File (Comp) | Cullman, AL | 06/21/06 | 06/21/06
59601 | Hospira (USW) | Ashland, OH | 06/21/06 | 06/21/06
59602 | Alliant Techsystems (Union) | Radford, VA | 06/21/06 | 06/21/06
59603 | Somitex Prints of California, Inc./Production (State) | City of Industry, CA | 06/21/06 | 06/21/06
59604 | Georgia Pacific (State) | Savannah, GA | 06/21/06 | 06/21/06
59605 | Fuji Photo Film, Inc. (Comp) | Greenwood, SC | 06/22/06 | 06/21/06
59606 | Panasonic (Wkrs) | Secaucus, NJ | 06/22/06 | 06/19/06
59607 | American Truetzschler Inc. (Comp) | Charlotte, NC | 06/22/06 | 06/20/06
59608 | Eaton Oklahoma City Clutch Plant (Comp) | Oklahoma City, OK | 06/22/06 | 06/21/06
59609 | Hodges Wood Products Inc. (Comp) | Marietta, MS | 06/22/06 | 06/21/06
59610 | E C Service Inc. (Wkrs) | New York, NY | 06/22/06 | 06/16/06
59611 | Tree Frog Studios (Comp) | Hendersonville, NC | 06/22/06 | 06/21/06
59612 | Tietex Interiors (Comp) | Rocky Mount, NC | 06/22/06 | 06/21/06
59613 | Burle Industries (Comp) | Lancaster, PA | 06/22/06 | 06/21/06
59614 | Ottawa Rubber Company (Comp) | Bradner, OH | 06/22/06 | 06/21/06
59615 | Belden CDT (Comp) | Tompkinsville, KY | 06/22/06 | 06/22/06
59616 | Sure Fit, Inc. (Wkrs) | Allentown, PA | 06/23/06 | 06/23/06
59617 | Rosemount Analytical, Inc. (Comp) | Irvine, CA | 06/23/06 | 06/21/06
59618 | Seco's Carboloy, Inc. (Union) | Warren, MI | 06/23/06 | 06/19/06
59619 | Williams Controls, Inc. (Union) | Portland, OR | 06/23/06 | 06/20/06
59620 | Desa International, LLC (Wkrs) | Bowling Green, KY | 06/23/06 | 06/16/06

[FR Doc. E6-11086 Filed 7-13-06; 8:45 am]

BILLING CODE 4510-30-P